DEPARTMENT OF TRANSPORTATION

Federal Highway Administration

Environmental Impact Statement, Travis and Hays County, TX

AGENCY: Federal Highway Administration (FHWA), DOT.

ACTION: Notice of Intent.

SUMMARY: Pursuant to 40 CFR 1508.22 and 43 TAC § 2.5(e)(2), the Federal Highway Administration and the Texas Department of Transportation (TxDOT) are issuing this notice that an environmental impact statement (EIS) will be prepared for a proposed highway project on United States Highway (US) 290 from Ranch to Market (RM) 12 to Farm to Market (FM) 1826 in Travis and Hays County, Texas.

FOR FURTHER INFORMATION CONTACT: Mr. Salvador Deocampo, FHWA Texas Division District Engineer at 300 East 8th Street, Room 826, Austin, Texas 78701.

SUPPLEMENTARY INFORMATION: From RM 12 to FM 1826, US 290 is an undivided 4-lane roadway with no shoulders except where 14-foot turn lanes and 10-foot shoulders have been recently added at various intersections to improve safety. The Capitol Area Metropolitan Planning Organization (CAMPO) travel demand model shows the need for a 4-6 lane limited access freeway from RM 12 to FM 1826. Therefore, a corridor study, which is included in the CAMPO 2030 Mobility Plan, is ongoing to evaluate the options for improving mobility on US 290 from RM 12 to FM 1826. To date, the corridor study indicates that a 6-lane limited access freeway would improve mobility and increase safety. The EIS will include the evaluation of a range of alternative locations for the 6-lane limited access freeway and the no action alternative.

The EIS will evaluate the impacts that might occur as a result of the development of a 6-lane limited access freeway from RM 12 to FM 1826. Resources to be evaluated include historic resources, air quality, noise, ground and surface water resources, socio-economics, etc.

It is anticipated that a United States Army Corps of Engineers, Section 404 nationwide permit would be required at several tributary crossings. A Notice of Intent and Storm Water Pollution Prevention Plan would be required to adhere to Environmental Protection Agency, Texas Pollutant Discharge Elimination System as administered by the Texas Commission on Environmental Quality.

Opportunities for public involvement will begin with two Scoping Meetings anticipated to be held in July 2007. One meeting will be held in southwest Austin, Texas, and the other will be held in Dripping Springs, Texas. The scoping meetings are an opportunity for participating agencies, cooperating agencies, and the public to review and comment on the draft coordination plan, to be involved in defining the purpose and need for the proposed project and to assist with determining the alternatives to be considered. Letters describing the proposed action including a request for comments will be sent to appropriate federal, state, and local agencies and to private organizations and citizens who have previously expressed or are known to have interest in this proposal.

To ensure that the full range of issues related to this proposed action are addressed and all significant issues identified, comments, and suggestions are invited from all interested parties, comments or questions concerning this proposed action and the EIS should be directed to the FHWA or TxDOT at the address provided above.

(Catalog of Federal Domestic Assistance Program Number 20.205, Highway Planning and Construction. The regulations implementing Executive Order 12372 regarding intergovernmental consultation on federal programs and activities apply to this program)

Issued on: June 20, 2007.
Salvador Deocampo,
District Engineer.

[FR Doc. 07-3109 Filed 6-25-07; 8:45 am]

BILLING CODE 4910-22-M